DEPARTMENT OF THE INTERIOR

Bureau of Land Management

[LLCAD07000.L51010000.ER0000.LVRWB10B3860.XXX]

Notice of Intent To Amend the Resource Management Plan for the California Desert Conservation Area and Prepare an Associated Environmental Assessment for the Plan Amendment and the Eagle Crest Pumped Storage Project, California

AGENCY: Bureau of Land Management, Interior.

ACTION: Notice.

SUMMARY: In compliance with the National Environmental Policy Act of 1969, as amended (NEPA), and the Federal Land Policy and Management Act of 1976, as amended (FLPMA), the Bureau of Land Management (BLM) California Desert District, Moreno Valley, California, intends to prepare a Resource Management Plan (RMP) amendment with an associated Environmental Assessment (EA) for both the plan amendment and the Eagle Crest Pumped Storage Project in the California Desert Conservation Area. By this notice the BLM is announcing the beginning of the scoping process to solicit public comments and identify issues for both proposals.

DATES: This notice initiates the public scoping process for the Eagle Crest Pumped Storage Project plan amendment/EA. Comments on issues may be submitted in writing until December 28, 2015. The date(s) and location(s) of any scoping meetings will be announced at least 15 days in advance through local news media, newspapers and the BLM Web site at: http://www.blm.gov/ca/st/en/fo/palmsprings.html. In order to be included in the analysis, all comments must be received prior to the close of the 30-day scoping period. We will provide additional opportunities for public participation as appropriate.

ADDRESSES: You may submit comments on issues and planning criteria related to Eagle Mountain Pumped Storage Hydroelectric plan amendment/EA by any of the following methods:

• Email: blm_ca_eagle_mountain_pumped_storage_project@blm.gov

• Fax: (951) 697-5299.

• Mail: Bureau of Land Management, California Desert District, 22835 Calle San Juan de Los Lagos, Moreno Valley, CA 92553.

Documents pertinent to this proposal may be examined at the California Desert District, 22835 Calle San Juan de Los Lagos, Moreno Valley, CA 92553.

FOR FURTHER INFORMATION CONTACT: Greg Miller, Deputy District Manager—Resources, telephone (951) 697-5200; address, Bureau of Land Management, California Desert District, 22835 Calle San Juan de Los Lagos, Moreno Valley, CA 92553; email, gmiller@blm.gov. Contact Mr. Miller to have your name added to our mailing list. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: This document provides notice that the BLM California Desert District Office intends to prepare a plan amendment/EA for the California Desert Conservation Area Plan, announces the beginning of the scoping process, and seeks public input on issues related to the plan amendment and proposed right-of-way, as well as the planning criteria. The planning area is located in Riverside County, California, and encompasses approximately 676 acres of public land. Eagle Crest Energy Company has applied to the BLM for a right-of-way (ROW) grant to construct, operate, maintain and decommission a 500 kilovolt (kV) generation interconnect (gen-tie) line and a water pipeline. The gen-tie line would transmit electricity generated by Eagle Crest's pumped storage facility to the Southern California Edison's Red Bluff sub-station located on BLM lands in Riverside County, California. The water line would draw water from an area below private land, traverse BLM land, and fill the reservoirs at the pumped storage facility. The purpose of the public scoping process is to determine relevant issues that will influence the scope of the EA, including alternatives for both the planning effort and the ROW grant, and guide the planning process. The preliminary issues of visual resources and hydrology for the plan amendment/ROW area have been identified by BLM personnel; Federal, State, and local agencies; and other stakeholders. Preliminary planning criteria include: (a) The plan will be completed in compliance with FLPMA, NEPA, and all other relevant Federal laws, Executive orders, and management policies of the BLM; (b) Existing planning decisions will remain unchanged unless specifically proposed to be changed; (c) The plan amendment will recognize valid existing rights; and (d) Native American tribal consultations will be conducted in accordance with policy and tribal concerns will be given due consideration. The planning process will include the consideration of any impacts on Indian trust assets.

You may submit comments on issues and planning criteria in writing to the BLM using one of the methods listed in the ADDRESSES section above. For these comments to be most helpful, you should submit them by the close of the 30-day scoping period. The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed actions that the BLM is evaluating, are invited to participate in the scoping process and, if eligible, may request or be requested by the BLM to participate in the development of the EA as a cooperating agency.

Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan amendment;

2. Issues to be resolved through policy or administrative action; or

3. Issues beyond the scope of this plan amendment.

The BLM will provide an explanation in the Draft RMP amendment/EA as to why an issue was placed in category two or three. The public is also encouraged to help identify any management questions and concerns that should be addressed in the plan, and/or pertain to the proposed ROWs. The BLM will work collaboratively with interested parties to identify the management decisions that are best suited to local, regional, and national needs and concerns.

The BLM will use an interdisciplinary approach to develop the plan amendment, and make a decision regarding the ROW grant, in order to consider the variety of resource issues and concerns identified. Specialists with expertise in the following disciplines will be involved in the planning process: Archaeology, wildlife, lands and realty, hydrology, sociology and economics.

Authority: 40 CFR 1501.7 and 43 CFR 1610.2.

Thomas Pogacnik,
Deputy State Director.

[FR Doc. 2015-29982 Filed 11-24-15; 8:45 am]

BILLING CODE 4310-40-P